DEPARTMENT OF DEFENSE

Department of the Air Force

[Docket ID: USAF-2011-0005]

Privacy Act of 1974; System of Records

AGENCY: Department of the Air Force, DoD.

ACTION: Notice to Alter a System of Records.

SUMMARY: The Department of the Air Force is proposing to alter a system of records notice in its existing inventory of records systems subject to the Privacy Act of 1974, (5 U.S.C. 552a), as amended.

DATES: The proposed action will be effective on March 25, 2011 unless comments are received that would result in a contrary determination.

ADDRESSES: You may submit comments, identified by docket number and/or Regulatory Information Number (RIN) and title, by any of the following methods:

* Federal Rulemaking Portal: http://www.regulations.gov. Follow the instructions for submitting comments.

* Mail: Federal Docket Management System Office, 1160 Defense Pentagon, Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Mr. Charles J. Shedrick, 703-696-6488, or Department of the Air Force Privacy Office, Air Force Privacy Act Office, Office of Warfighting Integration and Chief Information Officer, ATTN: SAF/XCPPI, 1800 Air Force Pentagon, Washington, DC 20330-1800.

SUPPLEMENTARY INFORMATION: The Department of the Air Force systems of records notices subject to the Privacy Act of 1974, (5 U.S.C. 552a), as amended, have been published in the Federal Register and are available from the FOR FURTHER INFORMATION CONTACT address above.

The proposed systems reports, as required by 5 United States Code 552a(r) of the Privacy Act, were submitted on February 9, 2011 to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996, 61 Federal Register 6427).

Dated: February 10, 2011.
Morgan F. Park,
Alternate OSD Federal Register Liaison Officer, Department of Defense.

F036 AF PC G

System Name:

Selective Reenlistment Consideration (June 11, 1997, 62 FR 31793).

Changes:

* * * * *

System location:

Delete entry and replace with “Headquarters Air Force Personnel Center, 550 C Street West, Randolph Air Force Base, TX 78150-7412 and at Military Personnel Sections at Air Force Installations. Official mailing addresses are published as an appendix to the Air Force's compilation of system of records.”

Categories of individuals covered by the system:

Delete entry and replace with “Initial enlistees within 15 months of original expiration term of service; second term career Airmen within 13 months of expiration term of service being considered for continued service in the Air Force.”

Categories of records in the system:

Delete entry and replace with “Individual's name, Social Security Number (SSN), date of birth, grade, home of record and documentation of the selective reenlistment consideration process.”

Authority for maintenance of the system:

Delete entry and replace with “10 U.S.C. Chapter 833, Enlistments; Air Force Instruction 36-2606, Reenlistment in the United States Air Force; and E.O. 9397 (SSN), as amended.”

* * * * *

Storage:

Delete entry and replace with “Maintained on electronic storage media and/or in file binders/cabinets.”

Retrievability:

Delete entry and replace with “Retrieved by name and/or last four digits of SSN.”

Safeguards:

Delete entry and replace with “Records are accessed by the custodian of the record system and by individuals responsible for servicing the record system in performance of their official duties and who are properly screened and cleared for need-to-know. Records are stored electronically and/or in locked cabinets or rooms. Electronic media is accessed by a Common Access Card (CAC).”

Retention and disposal:

Delete entry and replace with “Retained for one year after decision made to select individual for consideration of continued service in the Air Force. Paper records are destroyed by tearing into pieces, shredding, pulping, macerating, or burning and electronic records are destroyed by magnetic erasing.”

System manager(s) and address:

Delete entry and replace with “Headquarters Air Force Personnel Center, Directorate of Personnel Services, Enlisted Skills Management Branch (HQ AFPC/DPSOA), 550 C Street West, Suite 10, Randolph Air Force Base, TX 78150-4712.”

Notification procedures:

Delete entry and replace with “Individuals seeking to determine whether this system of records contains information on themselves should address written inquiries to the servicing military personnel section or visit the servicing military personnel section. Official mailing addresses are published as an appendix to the Air Force's compilation of systems of records notices.

For verification purposes, individual should provide their full name, SSN, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking to access records about themselves contained in this system should address requests to the servicing military personnel section or visit the servicing military personnel section. Official mailing addresses are published as an appendix to the Air Force's compilation of systems of records notices.

For verification purposes, individual should provide their full name, SSN, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Contesting record procedures:

Deleted entry and replace with “The Air Force rules for accessing records and for contesting contents and appealing initial agency determinations are published in 32 CFR part 806b, Air Force Instruction 33-332, Air Force Privacy Program and may be obtained from the system manager.”

* * * * *

F036 AF PC G

System name:

Selective Reenlistment Consideration.

System location:

Headquarters Air Force Personnel Center, 550 C Street West, Randolph Air Force Base, TX 78150-4712 and at Military Personnel Sections at Air Force Installations. Official mailing addresses are published as an appendix to the Air Force's compilation of system of records.

Categories of individuals covered by the system:

Initial enlistees within 15 months of original expiration term of service; second term career Airmen within 13 months of expiration term of service being considered for continued service in the Air Force.

Categories of records in the system:

Individual's name, Social Security Number (SSN), date of birth, grade, home of record and documentation of the selective reenlistment consideration process.

Authority for maintenance of the system:

10 U.S.C. Chapter 833, Enlistments; Air Force Instruction 36-2606, Reenlistment in the United States Air Force; and E.O. 9397 (SSN), as amended.

Purpose(s):

Used by member's immediate supervisor, member's immediate commander, unit career advisor, and base career advisor to determine member's reenlistment eligibility.

Routine uses of records maintained in the system, including categories of users and the purposes of such uses:

In addition to those disclosures generally permitted under 5 U.S.C. 552a(b) of the Privacy Act of 1974, these records contained therein may be specifically disclosed outside the DoD as a routine use pursuant to 5 U.S.C. 552a(b) as follows:

The DoD `Blanket Routine Uses' published at the beginning of the Air Force compilation of systems of records notices apply to this system.

Policies and practices for storing, retrieving, accessing, retaining, and disposing of records in the system:

Storage:

Maintained on electronic storage media and/or in file binders/cabinets.

Retrievability:

Retrieved by name and or last four digits of SSN.

Safeguards:

Records are accessed by the custodian of the record system and by individuals responsible for servicing the record system in performance of their official duties and who are properly screened and cleared for need-to-know. Records are stored electronically and/or in locked cabinets or rooms. Electronic media is accessed by a Common Access Card (CAC).

Retention and disposal:

Retained for one year after decision made to select individual for consideration of continued service in the Air Force. Paper records are destroyed by tearing into pieces, shredding, pulping, macerating, or burning and electronic records are destroyed by magnetic erasing.

System manager(s) and address:

Headquarters Air Force Personnel Center, Directorate of Personnel Services, Enlisted Skills Management Branch (HQ AFPC/DPSOA), 550 C Street West, Suite 10, Randolph Air Force Base, TX 78150-4712.

Notification procedures:

Individuals seeking to determine whether this system of records contains information on themselves should address written inquiries to the servicing military personnel section or visit the servicing military personnel section. Official mailing addresses are published as an appendix to the Air Force's compilation of systems of records notices.

For verification purposes, individual should provide their full name, SSN, any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Record access procedures:

Individuals seeking to access records about themselves contained in this system should address requests to the servicing military personnel section or visit the servicing military personnel section. Official mailing addresses are published as an appendix to the Air Force's compilation of systems of records notices.

For verification purposes, individual should provide their full name, SSN, any details which may assist in locating records, and their signature.

In addition, the requester must provide a notarized statement or an unsworn declaration made in accordance with 28 U.S.C. 1746, in the following format:

If executed outside the United States: ‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Air Force rules for accessing records and for contesting contents and appealing initial agency determinations are published in 32 CFR part 806b, Air Force Instruction 33-332, Air Force Privacy Program and may be obtained from the system manager.

Record source categories:

Entries are made by the supervisor and commander, and acknowledged by the member.

Exemptions claimed for the system:

None.

[FR Doc. 2011-3972 Filed 2-22-11; 8:45 am]

BILLING CODE 5001-06-P